GENERAL SERVICES ADMINISTRATION

[FMR B-17]

Stewardship of Federal Property; Notice of GSA Bulletin

AGENCY: Office of Governmentwide Policy, General Services Administration (GSA).

ACTION: Notice of a bulletin.

SUMMARY: This notice announces GSA Federal Management Regulation (FMR) Bulletin B-17 which provides guidance to Federal agencies to maximize the use and benefits of property throughout the asset management lifecycle and to explain how those benefits are extended to the public. GSA Bulletin FMR B-17 may be found at http://www.gsa.gov/fmrbulletin.

DATES: The bulletin announced in this notice is effective January 29, 2008.

FOR FURTHER INFORMATION CONTACT: For clarification of content, contact General Services Administration, Office of Governmentwide Policy, Office of Travel, Transportation and Asset Management, at (202) 501-1777. Please cite Bulletin FMR B-17.

SUPPLEMENTARY INFORMATION:

A. Background

Section 521 of Title 40 of the United States Code ( 40 U.S.C. 521) and General Services Administration (GSA) policies require the maximum use of excess property by executive agencies, and provide for the transfer of excess property to other Federal agencies and eligible recipients. In addition, section 524 of Title 40 United States Code (40 U.S.C. 524) and Federal Management Regulation (FMR) section 102-36.45 (41 CFR 102-36.45) require that the agencies perform care and handling of excess property. Maintaining the utility of property protects the Government's investment in that property and saves Federal agencies and taxpayers valuable resources by avoiding the need to acquire new property.

This notice announces GSA Bulletin FMR B-17 which provides guidance to Federal agencies to maximize the use and benefits of property throughout the asset management lifecycle and to explain how those benefits are extended to the public.

B. Procedures

Bulletins regarding asset management are located on the Internet at http://www.gsa.gov/fmrbulletin as Federal Management Regulation (FMR) bulletins.

Dated: January 30, 2008.
Robert Holcombe,
Director, Personal Property Management Policy.

[FR Doc. E8-2219 Filed 2-6-08; 8:45 am]

BILLING CODE 6820-14-P